DEPARTMENT OF HEALTH AND HUMAN SERVICES

Administration for Children and Families

Statement of Organization, Functions, and Delegations of Authority

AGENCY: Office of Child Support Enforcement, Administration for Children and Families, HHS.

ACTION: Notice.

SUMMARY: Statement of organization, functions, and delegations of authority.

The Administration for Children and Families (ACF) has reorganized the Office of Child Support Enforcement (OCSE). This reorganization realigns the functions of the Office of Child Support Enforcement. It eliminates the Office of Automation and Program Operations and moves the functions to the Division of Federal Systems. It also eliminates the Division of Special Staffs and moves the functions to the Division of Program Innovation and the Division of Regional Operations. Additionally, it creates the Division of Regional Operations. There are several Division name changes that are as follows: The Division of Management Services to the Division of Business and Resource Management; the Division of Consumer Services to the Division of Customer Communications; the Division of Planning, Research and Evaluation to the Division of Performance and Statistical Analysis; the Division of Policy to the Division of Policy and Training; and the Division of State, Tribal and Local Assistance to the Division of Program Innovation.

FOR FURTHER INFORMATION CONTACT: Vicki Turetsky, Commissioner, Office of Child Support Enforcement, 901 D Street SW., Washington, DC 20447, (202) 401-9369.

This notice amends Part K of the Statement of Organization, Functions, and Delegations of Authority of the Department of Health and Human Services (HHS), Administration for Children and Families (ACF), as follows: Chapter KF, Office of Child Support Enforcement (OCSE), as last amended in 71 FR 59117-59123, October 6, 2006.

I. Under Chapter KF, Office of Child Support Enforcement, delete KF in its entirety and replace with the following:

KF.00 MISSION. The Office of Child Support Enforcement (OCSE) advises the Secretary, through the Assistant Secretary for Children and Families/Director of the Office of Child Support Enforcement, on matters pertaining to the child support and access and visitation programs. OCSE provides direction, guidance and oversight to state and tribal child support, the Central Authority for international child support cases, and State Access and Visitation Programs for activities authorized and directed by title IV-D of the Social Security Act and other pertinent legislation. OCSE's core mission is dedicated to establishing paternity and obtaining child support in order to encourage responsible parenting, family self-sufficiency and child well-being and to recognize the essential role of both parents in supporting their children. The national child support program assures that assistance in obtaining support, including financial and medical, is available to children, through locating parents, establishing paternity, establishing and modifying support obligations, and monitoring and enforcing those obligations. The specific responsibilities of this Office are to: Develop, recommend and issue policies, procedures and interpretations for state and tribal programs for locating non-custodial parents, establishing paternity, and obtaining child support; develop procedures for review and approval or disapproval of state and tribal plan material; conduct audits of state child support programs; assist states and tribes in establishing adequate reporting procedures and maintaining records for the operation of their child support programs and of amounts collected and disbursed under the child support program and the costs incurred in collecting such amounts; operate the United States and Tribes Central Authority for International Child Support; and monitor the access/visitation and fatherhood programs; provide technical assistance and training to the states and tribes to help them develop effective procedures and systems for services provided by the child support program, including automation, outreach, referral, case management, and family-centered service delivery strategies in partnership with employers, courts, and responsible fatherhood, workforce, and other programs to increase the long-term reliability of support payments available to children. OCSE also operates competitive grant programs for child support in collaboration with several other components within the Administration for Children and Families. It also operates the Federal Parent Locator Service (FPLS); certifies to the Secretary of the Treasury amounts of child support obligations that require collection in appropriate instances; transmits to the Secretary of State certifications of arrearages for passport denial; submits reports to Congress, as requested, on activities undertaken relative to the child support program; approves advanced data processing planning documents; and reviews, assesses and inspects planning, design and operation of state and tribal management information systems. FPLS also assists other federal, state and tribal agencies not involved in child support to fulfill their respective missions, save taxpayer dollars, and improve service to the public.

KF.10 ORGANIZATION. The Office of Child Support Enforcement is headed by the Director. The office is organized as follows:

Office of the Director/Deputy Director/Commissioner (KFA)

Office of Audit (KFAA)

Office of the Deputy Commissioner (KFB)

Division of Business and Resource Management (KFB2)

Division of Customer Communications (KFB3)

Division of Performance and Statistical Analysis (KFB4)

Division of Policy and Training (KFB5)

Division of Program Innovation (KFB7)

Division of Regional Operations (KFB8)

Child Support Services Regional Program Units (KFB8DI-X)

Division of Federal Systems (KFB9)

Division of State and Tribal Systems (KFB10)

KF.20 FUNCTIONS. Office of the Director and Deputy Director/Commissioner (KFA): The Director is also the Assistant Secretary for Children and Families and is directly responsible to the Secretary for carrying out OCSE's mission. The Deputy Director/Commissioner has day-to-day operational responsibility for OCSE. The Deputy Director/Commissioner assists the Director in carrying out responsibilities of the Office and provides direction and leadership to the Office of the Deputy Commissioner and the Office of Audit.

The Deputy Director/Commissioner provides leadership and direction to OCSE and is responsible for developing regulations, guidance and standards for state/tribes to follow in locating absent parents; establishing paternity and support obligations; maintaining relationships with Department officials, other federal departments, state and tribal and local officials, and private organizations and individuals interested in the child support program; coordinating and planning child support program activities to maximize program effectiveness; program outreach as well as access/visitation programs and advocacy interests and approving all instructions, policies and publications. The Deputy Director/Commissioner is also responsible for the operations and maintenance of the Federal Parent Locator Service (FPLS); management and financial analysis and strategy development; internal OCSE operations; and compliance with federal laws and policies. The Deputy Director/Commissioner is responsible for collaborating with the Office of Legislative Affairs and Budget and the Government Accountability Office on studies related to the child support program. In addition, the Deputy Director/Commissioner maintains OCSE's Continuity of Operations Plan (COOP).

Office of Audit (KFAA): The Office of Audit develops, plans, schedules and conducts periodic audits of child support programs in accordance with audit standards promulgated by the Comptroller General. The office is headed by an Office Director and reports directly to the Commissioner. The Office conducts audits, at least once every three years (or more frequently if it is determined that a state has unreliable data or fails to meet the performance standards), to determine the reliability of state financial and statistical data reporting systems used in calculating the performance indicators used as the basis for the payment of performance-based financial incentives to the state. These audits include testing of the data produced by the system to ensure that it is valid, complete and reliable. The audits also include a review of the state's physical security and access controls.

The Office will also conduct financial audits to determine whether federal and other funds made available to carry out the child support program are being appropriately expended, and properly and fully accounted for. These audits will also examine collections and disbursements of support payments for proper processing and accounting. In addition, the Office will also conduct other audits and examinations of program operations as may be necessary or requested by program officials for the purpose of improving the efficiency, effectiveness and economy of state, tribal and local child support activities. The Office develops consolidated reports for the Commissioner, based on findings; provides specifications for the development of audit regulations and requirements for audits of state programs; and coordinates and maintains effective liaison with the HHS Inspector General's Office and with the Government Accountability Office.

Office of the Deputy Commissioner (KFB): The Deputy Commissioner reports to the Deputy Director/Commissioner and assists the Commissioner in carrying out the responsibilities of OCSE. The Deputy Commissioner provides day-to-day supervision and oversight to the Division of Federal Systems, Division of State and Tribal Systems, Division of Business and Resource Management, Division of Customer Communications, Division of Performance and Statistical Analysis, Division of Policy and Training, Division of Program Innovation, and Division of Regional Operations. The Deputy Commissioner provides coordination within OCSE's business strategy driven IT strategic plan.

Division of Business and Resource Management (KFB2): The Division of Business and Resource Management (BRM) is responsible for the overall management and operation of OCSE administrative services. The Division is headed by a Division Director who reports directly to the Deputy Commissioner. BRM leads all efforts related to the OCSE operating budget, personnel, contracts and acquisition, and space management. BRM is supported by three branches: The Budget and Financial Reporting branch manages, coordinates, and participates in the formulation and execution of the discretionary budgets for OCSE-operated programs and for federal administration of the child support program. The Workforce Development branch (1) develops, implements and manages all activities related to succession planning and staff development efforts; (2) coordinates all personnel activities, including staffing, employee and labor relations, performance management, and employee recognition; (3) manages and provides technical assistance on time and attendance and travel management systems; (4) manages OCSE-controlled space and facilities; (5) plans for, acquires, distributes, and controls office supplies; and (6) provides messenger services, maintains equipment inventory, and provides for health and safety.

The Acquisition and Program Support branch manages and coordinates procurement planning and provides technical assistance regarding all contract and iProcurement activities; and manages special projects for OCSE. Division of Customer Communications (KFB3): The Division of Customer Communications (DCC) provides leadership and direction for key communications for the national child support program to inform, engage and empower OCSE customers, partners, other stakeholders and the general public. The Division is headed by a Division Director who directly reports to the Deputy Commissioner and is supported by two branches. The Customer Service branch responds to individual customer requests for information about the program in general and on specific child support cases; and promotes “promising” child support practices through outreach campaigns and e-publication of the monthly Child Support Report. The Program Communications branch provides advice on strategies and approaches to improve public understanding of and access to OCSE programs and policies; develops and publishes informational materials on the OCSE Web site; and engages with our stakeholders through social media. With these information channels, the Division serves as a focal point for intergovernmental and customer relations and consultation, then advises the Deputy Director/Commissioner through the Deputy Commissioner of the impact of the child support program upon OCSE customers and stakeholders. Division of Performance and Statistical Analysis (KFB4): The Division of Performance and Statistical Analysis (DPSA) provides guidance, analysis, technical assistance and oversight to state and tribal child support programs regarding performance measurement; statistical, policy and program analysis; synthesis and dissemination of data sets to inform the program; and application of emerging technologies, such as business intelligence and data analytics to improve and enhance the effectiveness of programs and service delivery. The Division is headed by a Division Director who reports directly to the Deputy Commissioner and is supported by the Performance Management and Analysis branch; and the Data Collection and Reporting branch. The Division is also responsible for collection, compilation, analysis, and dissemination of state and tribal data to Congress and the general public. The Division provides statistical and budgeting support in coordination with other divisions. The Division is responsible for promoting public access and understanding of data; managing academic/research projects; and providing support for researchers. The office will also provide technical assistance to states in developing their self-assessment capabilities and implementing the annual reporting requirements contained in the Personal Responsibility and Work Opportunity Reconciliation Act (PRWORA) of 1996.

Division of Policy and Training (KFB5): The Division of Policy and Training (DPT) proposes and implements national policy for the child support program and provides policy guidance and interpretations to states and tribes in developing and operating their programs according to federal law. The Division is headed by a Division Director who directly reports to the Deputy Commissioner and is supported by the Policy branch and the Training branch. The Policy branch develops legislative proposals and regulations to implement new legislation, court decisions, or directives from higher authority and provides comments on pending legislative proposals. It develops new state plan preprint requirements and procedures for review and approval of state plans by the Division of Regional Operations and prepares the justification for state plan disapproval actions. The Division coordinates with the Office of General Counsel on pending departmental appeals and collaborates with ACF on audit resolution. It also implements Central Authority activities for international support enforcement. The Training branch provides national direction and leadership for OCSE training activities to increase child support program effectiveness at federal, state, and tribal levels; coordinates all training activities; and provides logistical support for training events, meetings, and conferences.

Division of Program Innovation (KFB7): The Division of Program Innovation (DPI) develops, evaluates, and refines new strategies to improve child support program effectiveness; disseminates information about promising and evidence-based practices; and coordinates preparation of the OCSE strategic plan. The Division is headed by a Division Director who reports directly to the Deputy Commissioner. The Grants and Evaluation Branch, manages research and demonstration projects, including Section 1115 grants and waivers and Special Improvement Project grants, and promotes program evaluation at the state and local levels. The Strategic Initiatives and Partnerships Branch implements special projects of regional or national significance, pilots new child support approaches, conducts strategic outreach, and builds collaborations with federal, state, tribal, local, and community agencies to efficiently improve child support services. The Division is responsible for consulting with states and tribes to periodically update the national strategic plan. The Division also administers the Access and Visitation Grant Program. Division of Regional Operations (KFB8): The Division of Regional Operations provides direct oversight of all child support Regional Program Unit operations including ensuring customer-focused partnerships to child support programs and services and implementation of child support regional operations, polices, budgets, and program compliance of all 10 regions. This includes oversight of Regional Program Units providing technical assistance and support to state child support agencies. The Division is headed by a Director, who reports directly to the Deputy Commissioner. The Division of Regional Operations provides management and oversight of the Regions through coordinating activities between Central Office Divisions and the Regional Program Units. The Division provides information to improve public understanding of and access to OCSE programs and policies. The Division is responsible for providing oversight on all Regional representation at conferences and meetings both within the child support community and other collaborative programs and partners. The Division is also responsible for the management, receipt, review and analysis of public inquiries and the preparation of formal (both written and electronic) responses to external inquiries for child support program information and assistance in obtaining child support services.

Child Support Enforcement Regional Program Units (KFB8DI-X): Each OCSE Regional Program Unit is headed by the OCSE Regional Program Manager who reports to the Director of the Division of Regional Operations. The OCSE Regional Program Manager, through subordinate regional staff, in collaboration with program components, is responsible for: (1) Providing program and technical administration of the ACF entitlement and discretionary programs related to OCSE; (2) collaborating with the ACF central office, states, tribes, and other external programs and grantees on all significant program and policy matters; (3) providing technical assistance and training to entities responsible for administering OCSE programs to resolve identified problems; (4) ensuring that appropriate procedures and practices are adopted; (5) working with appropriate state, tribal and local offices to develop and implement family centered and supported practices; and (6) monitoring the programs to ensure their efficiency and effectiveness, and ensuring that these entities conform to federal laws, regulations, policies, and procedures governing the programs.

Division of Federal Systems (KFB9): The Division of Federal Systems (DFS) is responsible for the design, development, deployment, maintenance, and implementation of the Federal Parent Locator Service (FPLS). The Division is headed by a Division Director who directly reports to the Deputy Commissioner. FPLS is made up of a group of data sharing, collection and program systems, such as the federal tax offset program that helps OCSE support the core mission of the child support program and help prevent improper payments in state and federal benefit programs through NDNH data matching. DFS provides states with data to help them locate parents, establish fair and equitable child support obligations, process income withholding and payments, collect and enforce past due child support, and communicate effectively and efficiently. Additionally, DFS provides outreach, technical support, and training to child support agencies, employers, insurers, financial institutions, and other private and government partners to ensure that the FPLS systems are used to their maximum benefit.

Division of State and Tribal Systems (KFB10): The Division of State and Tribal Systems (DSTS) reviews, analyzes, and approves/disapproves State and Tribal requests for Federal Financial Participation for automated systems development and operations activities which support the child support program. The Division is headed by a Division Director who directly reports to the Deputy Commissioner. The Division is supported by two branches: The Technical Services branch and the Systems Management branch. The Division provides assistance to states/tribes in developing or modifying automation plans to conform to federal requirements. It monitors approved state and tribal systems development activities; certifies state and tribal-wide automated systems; conducts periodic reviews to assure state and tribal compliance with regulatory requirements applicable to automated systems supported by Federal Financial Participation. It provides guidance to states and tribes on functional requirements for these automated information systems, and works with federal, state, local, and tribal health and human services agencies to foster and promote interoperability and collaboration across the automated systems that support their programs. It promotes interstate and tribal transfer of existing automated systems and provides assistance and guidance to improve ACF's programs through the use of automated systems and technology.

II. Continuation of Policy. Except as inconsistent with this reorganization, all statements of policy and interpretations with respect to organizational components affected by this notice within ACF, heretofore issued and in effect on this date of this reorganization are continued in full force and effect.

III. Delegation of Authority. All delegations and redelegations of authority made to officials and employees of affected organizational components will continue in them or their successors pending further redelegations, provided they are consistent with this reorganization.

IV. Funds, Personnel, and Equipment. Transfer of organizations and functions affected by this reorganization shall be accompanied in each instance by direct and support funds, positions, personnel, records, equipment, supplies, and other resources.

This reorganization will be effective upon date of signature.

Dated: September 26, 2013.
George H. Sheldon,
Acting Assistant Secretary for Children and Families.

[FR Doc. 2013-24107 Filed 10-1-13; 8:45 am]

BILLING CODE 4184-01-P